NATIONAL AERONAUTICS AND SPACE ADMINISTRATION

Notice of Meeting

SUMMARY: NASA will conduct an open forum to discuss the Agency's transformation activities and initiatives. This is a chance for members of NASA's Senior Management to discuss key Agency activities with senior level corporate and operations officials and to provide an opportunity for interaction. The forum is open to all companies currently doing business or that are considering doing business with NASA.

Note: This is not a meeting about “how to do business with NASA” for new firms, nor will it focus on small businesses or specific contracting opportunities. Position papers are not being solicited.

DATES: Thursday, June 26, 2003, from 9 to 11:30 a.m.

ADDRESSES: The meeting will be held at the NASA Headquarters Auditorium, 300 E Street, SW., Washington, DC 20546.

FOR FURTHER INFORMATION CONTACT: Yolande Harden, NASA Headquarters, Code HK, Washington, DC 20546, (202) 358-1279, or email: yharden@nasa.gov. Auditorium capacity is limited to 236 persons. To ensure adequate seating, a maximum of two representatives per firm is requested. Registration is requested. Interested parties can register at the following Web site: http://www.hq.nasa.gov/office/procurement/hqforum.html.

SUPPLEMENTARY INFORMATION: Admittance: Admittance will be on a first-come, first-served basis. Doors will open a half-hour prior to the presentation.

Format: Remarks will be made by the Deputy Administrator, Chief of Staff, Chief Financial Officer, Deputy General Counsel, and the Assistant Administrator for Procurement followed by a question and answer period.

Key topics of discussion include:

Agency Strategic Plan

Overview—changes in the Agency since December 2000

Agency Transformation/Initiatives

President's Management Agenda

One NASA

Full Cost

Integrated Financial Management

Information Technology

Human Capital

Program/Project Management

Ethics/Code of Conduct

Procurement Activities

Competitive Sourcing/FAIR Act Inventory

A-76

Safety

Acquisition Planning/Early Industry Involvement

NASA Shared Services Center

Small Business

Incentives

Initiatives

Property Issues/Reporting

Tom Luedtke,
Assistant Administrator for Procurement.

[FR Doc. 03-14936 Filed 6-12-03; 8:45 am]

BILLING CODE 7510-01-P